FEDERAL MARITIME COMMISSION

[Docket No. 16-03]

KSB Shipping & Logistics LLC v. Direct Container Line aka Vanguard Logistics; Notice of Filing of Complaint and Assignment

Notice is given that a complaint has been filed with the Federal Maritime Commission (Commission) by KSB Shipping & Logistics LLC, hereinafter “Complainant,” against Direct Container Line aka Vanguard Logistics, hereinafter “Respondent.” Complainant states that it is a non-vessel-operating common carrier (NVOCC) and freight forwarder licensed by the Commission and a New Jersey corporation. Complainant alleges that Respondent is an NVOCC licensed by the Commission.

Complainant alleges that Respondent has violated section 10(d)(1) of the Shipping Act, 46 U.S.C. 41102(c), in connection with a shipment made as agents for shippers Risona Incorporated and Bracha Export Corp DBA Continental, and consolidator R&A International Logistics Incorporated. Complainant alleges that “Cargo Partner Austria who were the agents of Vanguard Logistics in Europe released the delivery order to the consignees broker Cargo Clearing GMBH Austria without the latter presenting the Original Bill of lading and also despite the fact that the shipment was on hold status and despite the fact that Vanguard Logistics representative had given the assurance in writing to us that the shipment will be on hold.” Complainant seeks reparations of $191,110 plus interest and attorney's fees.

The full text of the complaint can be found in the Commission's Electronic Reading Room at www.fmc.gov/16-03.

This proceeding has been assigned to the Office of Administrative Law Judges. The initial decision of the presiding officer in this proceeding shall be issued by February 13, 2017, and the final decision of the Commission shall be issued by August 18, 2017.

Karen V. Gregory,
Secretary.

[FR Doc. 2016-03916 Filed 2-23-16; 8:45 am]

BILLING CODE 6731-AA-P